NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 17, 2011; 1 p.m. to 6 p.m. (EST).

May 18, 2011; 8 a.m. to 12 p.m. (EST).

Place: National Science Foundation, 4201 Wilson Boulevard,. Stafford I, Room 375, Arlington, VA.

Type of Meeting: Open.

Contact Person: Patty Balanga, National Science Foundation, 4201 Wilson Boulevard, Arlington, VA 22230 (703) 292-8100.

Purpose of Meeting: To provide advice concerning issues related to the oversight, integrity, development and enhancement of NSF's business operations.

Agenda:

May 17, 2011

Welcome/Introductions; BFA/OIRM/CHCO/CIO Overview Presentations; Innovative Technologies; International Facilities Subcommittee; Sensitive and Personally Identifiable Information; State of the B&O Committee.

May 18, 2011

NSF Recompetition Policy; Committee Discussion: Prepare for Meeting with NSF Deputy Director; Discussion with Deputy Director; Closing Committee Discussion/Wrap-Up.

Dated: April 26, 2011.
Susanne Bolton,
Committee Management Officer.

[FR Doc. 2011-10364 Filed 4-28-11; 8:45 am]

BILLING CODE 7555-01-P